FEDERAL MARITIME COMMISSION

[Docket No. 02-01]

Hellmann Worldwide Logistics, Inc. and Pelorus Ocean Line, Ltd. v. Cosco Container Lines Company Limited; Notice of Filing of Complaint and Assignment

Notice is given that a complaint has been filed with the Federal Maritime Commission (“Commission”) by Hellmann Worldwide Logistics, Inc., (“Hellmann”) and Pelorus Ocean Line, Ltd., (“Pelorus”)(collectively “Complainants”) against Cosco Container Lines Company Limited (“COSCO”).

Complainants state that Pelorus and COSCO entered into certain service contracts (SCs) pursuant to which Pelorus booked cargo. COSCO subsequently invoiced Hellmann, as Pelorus' agent, amounts differing from the SCs' freight rates. Pelorus paid COSCO for these invoices through its agent Hellmann.

Complainants contend that COSCO violated section 10(b)(2)(A) of the Shipping Act of 1984 (“Act”) by charging rates differing from those listed in the effective SCs or tariff, thus providing service that is not in accordance with a tariff published or a service contract entered into under section 8 of the Act; section 10(b)(10) of the Act by unreasonably refusing to deal or negotiate and in refusing to return Complainants' overpayments; and section 10(d)(1) of the Act by engaging in unjust and unreasonable practices with respect to the filing of service contract amendments, collection of freight charges and failure to reimburse freight overpayments.

Complainants ask that COSCO be compelled to answer their charges, and that the Commission issue an order holding COSCO's actions unlawful and in violation of the Act and compelling COSCO to pay them $184,802.80 in reparations, in addition to interest, costs and attorney” fees, and such other and further relief the Commission deems just and proper.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by February 21, 2003, and the final decision of the Commission shall be issued by June 23, 2003.

Bryant L. VanBrakle,
Secretary.

[FR Doc. 02-4651 Filed 2-26-02; 8:45 am]

BILLING CODE 6730-01-P